DEPARTMENT OF TRANSPORTATION

Federal Aviation Administration

14 CFR Part 39

[Docket No. FAA-2021-0726; Project Identifier 2019-CE-059-AD; Amendment 39-21724; AD 2021-19-06]

RIN 2120-AA64

Airworthiness Directives; RUAG Aerospace Services GmbH (Type Certificate Previously Held by Dornier Luftfahrt GmbH) Airplanes

AGENCY: Federal Aviation Administration (FAA), DOT.

ACTION: Final rule; request for comments.

SUMMARY: The FAA is superseding Airworthiness Directive (AD) 2007-02-13, which applied to certain Dornier Luftfahrt GmbH (type certificate currently held by RUAG Aerospace Services GmbH) Model Dornier 228-212 airplanes. AD 2007-02-13 required inspecting the landing gear carbon brake assembly. This AD requires inspecting certain carbon brake assemblies and corrective actions if necessary. This AD was prompted by mandatory continuing airworthiness information (MCAI) issued by the European Union Aviation Safety Agency (EASA) to correct an unsafe condition on an aviation product. The MCAI identifies the unsafe condition as loose bolts and nuts on the landing gear carbon brake assembly. The FAA is issuing this AD to address the unsafe condition on these products.

DATES: This AD is effective October 15, 2021.

The Director of the Federal Register approved the incorporation by reference of a certain publication listed in this AD as of October 15, 2021.

The FAA must receive any comments on this AD by November 15, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact RUAG Aerospace Services GmbH, Dornier 228 Customer Support, P.O. Box 1253, 82231 Wessling, Federal Republic of Germany; phone: +49 (0) 8153-30-2280; fax: +49 (0) 8153-30-3030; email: custsupport.dornier228@ruag.com; website: https://www.ruag.com/. You may view this service information at the FAA, Airworthiness Products Section, Operational Safety Branch, 901 Locust, Kansas City, MO 64106. For information on the availability of this material at the FAA, call (816) 329-4148. It is also available at https://www.regulations.gov by searching for and locating Docket No. FAA-2021-0726.

Examining the AD Docket

You may examine the AD docket at https://www.regulations.gov by searching for and locating Docket No. FAA-2021-0726; or in person at Docket Operations between 9 a.m. and 5 p.m., Monday through Friday, except Federal holidays. The AD docket contains this final rule, the MCAI, any comments received, and other information. The street address for Docket Operations is listed above.

FOR FURTHER INFORMATION CONTACT: Doug Rudolph, Aviation Safety Engineer, General Aviation & Rotorcraft Section, International Validation Branch, FAA, 901 Locust, Room 301, Kansas City, MO 64106; phone: (816) 329-4059; fax: (816) 329-4090; email: doug.rudolph@faa.gov.

SUPPLEMENTARY INFORMATION:

Comments Invited

The FAA invites you to send any written data, views, or arguments about this final rule. Send your comments to an address listed under ADDRESSES. Include “Docket No. FAA-2021-0726; Project Identifier 2019-CE-059-AD” at the beginning of your comments. The most helpful comments reference a specific portion of the proposal, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Doug Rudolph, Aviation Safety Engineer, General Aviation & Rotorcraft Section, International Validation Branch, FAA, 901 Locust, Room 301, Kansas City, MO. Any commentary that the FAA receives which is not specifically designated as CBI will be placed in the public docket for this rulemaking.

Background

The FAA issued AD 2007-02-13, Amendment 39-14900 (72 FR 3355, January 25, 2007) (AD 2007-02-13), for certain serial-numbered Dornier Luftfahrt GmbH (type certificate now held by RUAG Aerospace Services GmbH) Model 228-212 airplanes. AD 2007-02-13 required inspecting the landing gear carbon brake assembly and replacing if necessary. AD 2007-02-13 resulted from AD No. 2006-0352-E, dated November 24, 2006, issued by EASA, which is the Technical Agent for the Member States of the European Union. The FAA issued AD 2007-02-13 to prevent the brake assembly from detaching and malfunctioning, degrading brake performance, and potentially causing loss of control of the airplane during landing or rollout.

Actions Since AD 2007-02-13 Was Issued

Since the FAA issued AD 2007-02-13, EASA superseded its AD and issued EASA AD 2019-0307, dated December 18, 2019 (referred to after this as “the MCAI”), to address an unsafe condition on all RUAG Aerospace Services GmbH (formerly Dornier Luftfahrt GmbH) Model Dornier 228-212 airplanes. The MCAI states:

During a maintenance inspection, loose bolts and nuts were detected on the landing gear carbon brake assembly.

This condition, if not detected and corrected, could result in detachment of the brake assembly and subsequent malfunction, degrading brake performance, and loss of control of the aeroplane during landing or roll-out, possibly resulting in damage to the aeroplane and injury to occupants.

RUAG issued [alert service bulletin] ASB Dornier 228-265 (original issue) to provide instructions for a visual inspection of the bolts, the gap between brake housing subassembly and torque tube assembly and hydraulic plumbing. Consequently, the Luftfahrt-Bundesamt (LBA) issued a mandatory measure under [European Union] EU Regulation (EC) 1592/2002, Article 10(1) for affected aeroplanes registered in Germany and notified EASA. The Agency concurred with the LBA action and issued EASA Emergency AD 2006-0352-E to require inspection of the affected brake assembly and, depending on findings, replacement with a serviceable brake assembly.

Since that [EASA] AD was issued, RUAG was informed by the manufacturer of the brake assembly that anti-seize and screw locking compound have been applied in a wrong way during production of new brake assemblies.

Prompted by this finding, RUAG issued the ASB, as defined in this [EASA] AD, to amend the intervals (reducing the flight hours (FH) interval, adding a flight cycle (FC) interval and deleting the calendar time interval) of the repetitive inspections.

For the reason described above, this [EASA] AD retains the requirements of EASA AD 2006-0352-E, which is superseded, and requires the inspections within new compliance times.

You may examine the MCAI in the AD docket at https://www.regulations.gov by searching for and locating Docket No. FAA-2021-0726.

Related Service Information Under 1 CFR Part 51

The FAA reviewed RUAG Dornier 228 Alert Service Bulletin No. ASB-228-265, Revision 2, dated December 10, 2019. This service information contains procedures for inspecting carbon brake assemblies having part/number (P/N) 5009850-1, P/N 5009850-2, P/N 5009850-3, or P/N 5009850-4 up to revision “F” for tight fit and damage of the bolts and self-locking nuts and for a gap between the brake housing subassembly and the torque tube subassembly, and taking corrective actions if any discrepancies (loose or damaged bolts and self-locking nuts or a gap between the brake housing subassembly and the torque tube subassembly) are found. This service information is reasonably available because the interested parties have access to it through their normal course of business or by the means identified in ADDRESSES.

FAA's Determination

This product has been approved by the aviation authority of another country, and is approved for operation in the United States. Pursuant to the FAA's bilateral agreement with this State of Design Authority, it has notified the FAA of the unsafe condition described in the MCAI and service information referenced above. The FAA is issuing this AD because it determined the unsafe condition described previously is likely to exist or develop on other products of the same type design.

AD Requirements

This AD requires accomplishing the actions specified in the service information already described, except as discussed under “Differences Between this AD and the MCAI.” This AD also prohibits installing certain carbon brake assemblies unless they have passed an inspection.

Differences Between This AD and the MCAI

The MCAI has an initial compliance time of before further flight after November 27, 2006 (the effective date of EASA AD 2006-0352-E), while this AD has an initial compliance time of before further flight after the effective date of this AD. The MCAI requires contacting the manufacturer if any discrepancies are found, while this AD requires repair using an approved method or replacement.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The FAA has found that the risk to the flying public justifies waiving notice and comment prior to adoption of this rule because there are no airplanes currently on the U.S. registry and thus, it is unlikely that the FAA will receive any adverse comments or useful information about this AD from U.S. operators. Accordingly, notice and opportunity for prior public comment are unnecessary pursuant to 5 U.S.C. 553(b)(3)(B). In addition, the FAA finds that good cause exists pursuant to 5 U.S.C. 553(d) for making this amendment effective in less than 30 days for the same reasons the FAA found good cause to forego notice and comment.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

There are currently no affected airplanes on the U.S. registry. In the event an affected airplane becomes a U.S.-registered product, the following is an estimate of the costs to comply with this AD.

The FAA estimates that it would take 1 work-hour per airplane to comply with the inspection required by this AD. The average labor rate is $85 per work-hour. Based on these figures, the FAA estimates the cost of this AD to be $85 per airplane per inspection cycle.

The extent of damage found during the required inspection could vary considerably from airplane to airplane. The FAA has no way of estimating how much damage may be found on each airplane or the cost to repair damaged parts.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2007-02-13, Amendment 39-14900 (72 FR 3355, January 25, 2007); and

b. Adding the following new airworthiness directive:

2021-19-06 UAG Aerospace Services GmbH (Type Certificate Previously Held by Dornier Luftfahrt GmbH): Amendment 39-21724; Docket No. FAA-2021-0726; Project Identifier 2019-CE-059-AD.

(a) Effective Date

This airworthiness directive (AD) is effective October 15, 2021.

(b) Affected ADs

This AD replaces AD 2007-02-13, Amendment 39-14900 (72 FR 3355, January 25, 2007).

(c) Applicability

This AD applies to RUAG Aerospace Services GmbH (Type Certificate Previously Held by Dornier Luftfahrt GmbH) Model Dornier 228-212 airplanes, all serial numbers, certificated in any category.

(d) Subject

Joint Aircraft System Component (JASC) Code 3200, Landing Gear System.

(e) Unsafe Condition

This AD was prompted by mandatory continuing airworthiness information (MCAI) originated by an aviation authority of another country to identify and correct an unsafe condition on an aviation product. The MCAI identifies the unsafe condition as loose bolts and nuts on the landing gear carbon brake assembly. The FAA is issuing this AD to prevent detachment of the brake assembly and consequent malfunction, which, if not addressed, could result in degraded brake performance and loss of control during landing or rollout.

(f) Compliance

Comply with this AD within the compliance times specified, unless already done.

(g) Definitions

(1) For purposes of this AD, an affected part is a carbon brake assembly having part number (P/N) 5009850-1, P/N 5009850-2, P/N 5009850-3, or P/N 5009850-4.

(2) For purposes of this AD, a Group 1 airplane is an airplane with an affected part that has never been overhauled installed.

(3) For purposes of this AD, a Group 2 airplane is an airplane with an affected part that has been overhauled installed.

(h) Required Inspections and Corrective Actions

(1) For Group 1 airplanes: Before further flight and thereafter at intervals not to exceed 50 hours time-in-service (TIS) or 150 flight cycles, whichever occurs first, inspect each affected part for tight fit and damage of the bolts and self-locking nuts and for a gap between the brake housing subassembly and the torque tube subassembly, and take any necessary corrective actions before further flight in accordance with steps (1)a) through (1)c) of the Accomplishment Instructions in RUAG Dornier 228 Alert Service Bulletin No. ASB-228-265, Revision 2, dated December 10, 2019, except you are not required to contact the manufacturer. Instead, repair using a method approved by the Manager, International Validation Branch, FAA, or the European Union Aviation Safety Agency (EASA), or replace the brake assembly.

(2) For Group 2 airplanes: Before further flight and thereafter at intervals not to exceed 150 hours TIS, inspect each affected part for tight fit and damage of the bolts and self-locking nuts and for a gap between the brake housing subassembly and the torque tube subassembly, and take any necessary corrective actions before further flight in accordance with steps (2)a) through (2)c) of the Accomplishment Instructions in RUAG Dornier 228 Alert Service Bulletin No. ASB-228-265, Revision 2, dated December 10, 2019, except you are not required to contact the manufacturer. Instead, repair using a method approved by the Manager, International Validation Branch, FAA, or EASA, or replace the brake assembly.

(i) Parts Installation Limitation

As of the effective date of this AD, do not install an affected part on any airplane unless, prior to installation, you have complied with this AD.

(j) Credit for Previous Actions

You may take credit for the initial inspection and corrective actions that are required by paragraph (h) of this AD if you performed those inspections and corrective actions before the effective date of this AD using RUAG Dornier 228 Alert Service Bulletin No. ASB-228-265, Revision 1, dated September 2, 2019.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in Related Information, paragraph (l)(1) of this AD or email: 9-AVS-AIR-730-AMOC@faa.gov.

(2) Before using any approved AMOC, notify your appropriate principal inspector, or lacking a principal inspector, the manager of the local flight standards district office/certificate holding district office.

(l) Related Information

(1) For more information about this AD, contact Doug Rudolph, Aviation Safety Engineer, General Aviation & Rotorcraft Section, International Validation Branch, FAA, 901 Locust, Room 301, Kansas City, MO 64106; phone: (816) 329-4059; fax: (816) 329-4090; email: doug.rudolph@faa.gov.

(2) Refer to European Union Aviation Safety Agency (EASA) AD 2019-0307, dated December 18, 2019, for more information. You may examine the EASA AD in the AD docket at https://www.regulations.gov by searching for and locating it in Docket No. FAA-2021-0726.

(3) Service information identified in this AD that is not incorporated by reference is available at the addresses specified in paragraphs (m)(3) and (4) of this AD.

(m) Material Incorporated by Reference

(1) The Director of the Federal Register approved the incorporation by reference of the service information listed in this paragraph under 5 U.S.C. 552(a) and 1 CFR part 51.

(2) You must use this service information as applicable to do the actions required by this AD, unless the AD specifies otherwise.

(i) RUAG Dornier 228 Alert Service Bulletin No. ASB-228-265, Revision 2, dated December 10, 2019.

(ii) [Reserved]

(3) For service information identified in this AD, contact RUAG Aerospace Services GmbH, Dornier 228 Customer Support, P.O. Box 1253, 82231 Wessling, Federal Republic of Germany, telephone: +49 (0) 8153-30-2280; fax: +49 (0) 8153-30-3030; email: custsupport.dornier228@ruag.com; website: https://www.ruag.com/.

(4) You may view this service information at FAA, Airworthiness Products Section, Operational Safety Branch, 901 Locust, Kansas City, MO 64106. For information on the availability of this material at the FAA, call (816) 329-4148.

(5) You may view this service information that is incorporated by reference at the National Archives and Records Administration (NARA). For information on the availability of this material at NARA, email: fr.inspection@nara.gov, or go to: https://www.archives.gov/federal-register/cfr/ibr-locations.html.

Issued on August 31, 2021.
Gaetano A. Sciortino,
Deputy Director for Strategic Initiatives, Compliance & Airworthiness Division, Aircraft Certification Service.

[FR Doc. 2021-21097 Filed 9-29-21; 8:45 am]

BILLING CODE 4910-13-P